DEPARTMENT OF EDUCATION

Applications for New Awards; School Climate Transformation Grant Program—State Educational Agency Grants

AGENCY: Office of Elementary and Secondary Education, Department of Education.

ACTION: Notice.

SUMMARY: The Department of Education (Department) is issuing a notice inviting applications for fiscal year (FY) 2018 for the School Climate Transformation Grant Program—State Educational Agency Grants, Catalog of Federal Domestic Assistance (CFDA) number 84.184F.

DATES:

Applications Available: July 26, 2018.

Deadline for Transmittal of Applications: August 27, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Carlette KyserPegram, U.S. Department of Education, 400 Maryland Avenue SW, Room 3E257, Washington, DC 20202-6450. Telephone: (202) 453-6732. Email: Carlette.KyserPegram@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The School Climate Transformation Grant Program—State Educational Agency Grants provides competitive grants to State educational agencies (SEAs) to develop, enhance, or expand statewide systems of support for, and technical assistance to, local educational agencies (LEAs) and schools implementing an evidence-based (as defined in this notice), multitiered behavioral framework for improving behavioral outcomes and learning conditions for all students.

Background: Research demonstrates that the implementation of an evidence-based, multitiered behavioral framework, such as positive behavioral interventions and supports (PBIS), can help improve overall school climate and safety.¹ A key aspect of this multitiered approach is providing differing levels of support and interventions to students based on their needs. Certain supports involve the whole school (e.g., consistent rules, consequences, and reinforcement of appropriate behavior), with more intensive supports for groups of students exhibiting at-risk behavior and individualized services for students who continue to exhibit troubling behavior.

¹ Bradshaw, C.P., Koth, C.W., Thornton, L.A., & Leaf, P.J. (2009). Altering School Climate through School-Wide Positive Behavioral Interventions and Supports: Findings from a Group-Randomized Effectiveness Trial. Prevention Science.

When a multitiered behavioral framework has been implemented with fidelity, studies have found the following statistically significant results: An increase in perceived school safety, reductions in overall problem behaviors, reductions in bullying behaviors,² and reductions in office discipline referrals and suspensions.³ Studies have also found a correlation between the use of multitiered behavioral frameworks and improved social skills.⁴ Emerging evidence also links implementing a multitiered behavioral framework with improved academic achievement.⁵

² Bradshaw, C., Goldweber, A., Leaf, P., Pasa, E., & Rosenberg, M. (2012). Integrating school-wide Positive Behavioral Interventions and Supports with tier 2 coaching to student support teams: The PBISplus model. Advances in School Mental Health Promotion.

³ Bradshaw, C., Leaf, P., & Mitchell, M. (2009). Examining the effects of schoolwide Positive Behavioral Interventions and Supports on student outcomes: Results from a randomized controlled effectiveness trial in elementary schools. Journal of Positive Behavior Interventions.

⁴ Barrett, S.B., Bradshaw, C.P., & Lewis-Palmer, T. (2008). Maryland statewide PBIS initiative: Systems, evaluation, and next steps. Journal of Positive Behavior Interventions.

⁵ McIntosh, K., Bennett, J.L., & Price, K. (2011). Evaluation of social and academic effects of school-wide positive behaviour support in a Canadian school district. Exceptionality Education International.

Under this program, grant funds will help build SEA capacity to assist LEAs develop, enhance, or expand their systems of support for, and technical assistance to, schools implementing evidence-based multitiered behavior frameworks for improving behavioral outcomes and learning conditions for all students.

Priorities: We are establishing these priorities for the FY 2018 grant competition and any subsequent year in which we make awards from the list of unfunded applications from this competition, in accordance with section 437(d)(1) of the General Education Provisions Act (GEPA), 20 U.S.C. 1232(d)(1).

Absolute Priority: For FY 2018 and any subsequent year in which we make awards from the list of unfunded applications from this competition, this priority is an absolute priority. Under 34 CFR 75.105(c)(3) we consider only applications that meet this priority.

This priority is:

Grants to State Educational Agencies (SEAs) to Implement Statewide Systems of Support for Multitiered Behavioral Frameworks to Improve School Climate.

Under this priority, we provide grants to SEAs to develop, enhance, or expand statewide systems of support for, and provide technical assistance to, LEAs implementing a multitiered behavioral framework to improve school climate and behavioral outcomes for all students.

Competitive Preference Priority: For FY 2018 and any subsequent year in which we make awards from the list of unfunded applications from this competition, this priority is a competitive preference priority. Under 34 CFR 75.105(c)(2)(1) we award an additional 5 points to an application that meets this priority. An applicant must clearly indicate in the abstract section of its application that it is applying for the competitive preference priority. The Department may not review or award points under this competitive preference priority for any application that fails to do so.

This priority is:

Technical Assistance Related to Opioid Abuse and Prevention (5 points).

Under this priority, we will provide additional points to an applicant that proposes a high-quality plan to incorporate opioid abuse prevention and mitigation strategies into the menu of evidence-based strategies available to LEAs implementing multitiered behavioral frameworks. The plan should describe how the SEA will incorporate outreach to LEAs with high levels of opioid use to promote adoption of these strategies, as well as how the SEA will track the adoption and effectiveness of these strategies. The plan may also include providing technical assistance to or support for LEAs that implement or plan to implement other relevant, high-quality approaches such as the Screening, Brief Intervention and Referral to Treatment (SBIRT) student assessment approach referenced in the 2018 President's Commission on Combatting Drug Addiction and the Opioid Crisis report. The report can be found be found at: www.whitehouse.gov/sites/whitehouse.gov/files/images/Final_Report_Draft_11-15-2017.pdf. The plan could also address the mental health needs of students who are negatively impacted by family members who are (or have been) abusers. Applicants that receive competitive preference points under this priority and are ultimately awarded a School Climate Transformation Grant will finalize and implement the high-quality plan described in response to this priority post-award.

Requirements: We are establishing these program requirements and application requirements for the FY 2018 grant competition and any subsequent year in which we make awards from the list of unfunded applications from this competition, in accordance with section 437(d)(1) of GEPA, 20 U.S.C. 1232(d)(1).

Program Requirements: Each grantee must implement a plan that—

(a) Builds SEA capacity for supporting the sustained and broad-scale implementation with fidelity of a multitiered behavioral framework by LEAs by—

(1) Improving the skills of SEA personnel to assist LEA implementation of the components of a multitiered behavioral framework, such as policies, funding, professional development, coaching, and interagency coordination for providing services;

(2) Developing a cadre of trained and experienced SEA staff to provide training and ongoing coaching to LEA leadership teams on the multitiered behavioral framework; and

(3) Improving the quality, accessibility, and usefulness of statewide data collection and analysis for the purposes related to the State's strategies for improving school climate;

(b) Enhances LEA capacity for implementing with fidelity and sustaining a multitiered behavioral framework by providing training and technical assistance to LEAs on—

(1) Developing or improving the quality, accessibility, and usefulness of LEA data collection and data-based decision making related to improving school climate;

(2) Improving the skills and expertise of LEA personnel to develop, implement with fidelity, and sustain a multitiered behavioral framework; and

(3) Using evidence-based practices and reliable and valid tools and processes for evaluating the fidelity of implementation of the multitiered behavioral framework, and for measuring its outcomes, including reductions in discipline referrals, suspensions, expulsions, and the use of restraints and seclusion; improvements in school climate; increases in instructional time; and improvements in overall academic achievement; and

(c) Coordinates SEA efforts with appropriate Federal, State, and local resources, including the PBIS Technical Assistance Center funded by the Department.

Application Requirements: Applications that fail to meet any one of these requirements will not be read or scored. The applicant must—

(a) Describe the current efforts by the SEA to support implementation of a multitiered behavioral framework in its LEAs and schools, as well as the need to implement, scale-up, and sustain such a framework in additional LEAs and schools. The applicant must present State and local data demonstrating this need, including, but not limited to, the number and types of LEAs and schools that are currently implementing a multitiered behavioral framework;

(b) Describe its plan to build, improve, or enhance SEA capacity to provide effective training, technical assistance, and support to LEAs and their schools on implementing a school-wide multitiered behavioral framework, including: When and where to conduct technical assistance activities; how to garner buy-in from participants and other stakeholders; how to balance the time needed to deliver technical assistance related to this grant with the time needed to deliver other technical assistance and professional development activities; the estimated number of LEAs that will be assisted; and how the SEA will help build capacity for implementation at the local level;

(c) Describe how the proposed project will address the needs of high-need LEAs (as defined in this notice), including those with schools identified for comprehensive support and improvement under section 1111(d)(1) of the ESEA and schools identified for targeted support and improvement under section 1111(d)(2) of the ESEA; and

(d) Explain how the SEA's efforts to build LEA and school capacity to implement, expand, and sustain a multitiered behavioral framework will be coordinated with other SEA and LEA school safety and school improvement efforts such as expanding access to mental health care or reducing cyberbullying.

Definitions: We are establishing the definitions of “high-need LEA” and “multitiered behavioral framework” in this notice for the FY 2018 grant competition and any subsequent year in which we make awards from the list of unfunded applications from this competition, in accordance with section 437(d)(1) of GEPA, 20 U.S.C. 1232(d)(1). The definition of “evidence-based” is from section 8101 of the ESEA.

Evidence-based, when used with respect to a State, LEA, or school activity, means an activity, strategy, or intervention that—

(i) Demonstrates a statistically significant effect on improving student outcomes or other relevant outcomes based on—

(I) Strong evidence from at least one well-designed and well-implemented experimental study;

(II) Moderate evidence from at least one well-designed and well-implemented quasi-experimental study; or

(III) Promising evidence from at least one well-designed and well-implemented correlational study with statistical controls for selection bias; or

(ii)(I) Demonstrates a rationale based on high-quality research findings or positive evaluation that such activity, strategy, or intervention is likely to improve student outcomes or other relevant outcomes; and

(II) Includes ongoing efforts to examine the effects of such activity, strategy, or intervention.

High-need LEA means an LEA (a) that serves not fewer than 10,000 children from families with incomes below the poverty line; or (b) for which not less than 20 percent of the children served by the LEA are from families with incomes below the poverty line.

Multitiered behavioral framework means a school-wide structure used to improve the integration and implementation of behavioral practices, data-driven decision-making systems, professional development opportunities, school leadership, supportive SEA and LEA policies, and evidence-based instructional strategies.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under Title IV, Part F, Subpart 3 of the ESEA (20 U.S.C. 7281) and therefore qualifies for this exemption. In order to ensure timely grant awards, the Secretary has decided to forgo public comment on the priorities, definitions, and requirements under section 437(d)(1) of GEPA. These priorities, definitions, and requirements will apply to the FY 2018 grant competition and any subsequent year in which we make awards from the list of unfunded applications from this competition.

Program Authority: Subpart 3 of Title IV, Part F of the ESEA (20 U.S.C. 7281).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $8,000,000.

Contingent upon the availability of funds and the quality of applications, we may make additional awards in FY 2019 and subsequent years from the list of unfunded applications from the competition announced in this notice.

Estimated Range of Awards: $250,000 to $750,000 per year for up to 5 years.

Estimated Average Size of Awards: $500,000.

Maximum Award: We will not make an award exceeding $750,000 for a single budget period of 12 months.

Estimated Number of Awards: 16.

Authority: The Department is not bound by any estimates in this notice.

Project Period: Up to 60 months.

III. Eligibility Information

1. Eligible Applicants: SEAs.

2. Cost Sharing or Matching: This program does not require cost sharing or matching.

3. Subgrantees: A grantee under this competition may not award subgrants to entities to directly carry out project activities described in its application.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is subject to Executive Order 12372 and the regulations in 34 CFR part 79. However, under 34 CFR 79.8(a), we waive intergovernmental review in order to make awards by the end of FY 2018.

3. Funding Restrictions: We reference regulations outlining funding restrictions in the Applicable Regulations section of this notice.

V. Application Review Information

1. Selection Criteria: The selection criteria for this program are from 34 CFR 75.210. The maximum score for all selection criteria is 100 points. The points or weights assigned to each criterion are indicated in parentheses. Non-Federal peer reviewers will evaluate and score each application program narrative against the following selection criteria:

(a) Need for Project (20 points).

The Secretary considers the need for the proposed project. In determining the need for the proposed project, the Secretary considers the following factors:

(i) The magnitude or severity of the problem to be addressed by the proposed project. (10 points)

(ii) The extent to which specific gaps or weaknesses in services, infrastructure, or opportunities have been identified and will be addressed by the proposed project, including the nature and magnitude of those gaps or weaknesses. (10 points)

(b) Significance (10 points).

The Secretary considers the significance of the proposed project. In determining the significance of the proposed project, the Secretary considers the potential contribution of the proposed project to increased knowledge or understanding of educational problems, issues, or effective strategies. (10 points)

(c) Quality of the Project Design (30 points).

The Secretary considers the quality of the design of the proposed project. In determining the quality of the design of the proposed project, the Secretary considers the following factors:

(i) The extent to which the design of the proposed project is appropriate to, and will successfully address, the needs of the target population or other identified needs. (15 points)

(ii) The extent to which the design of the proposed project reflects up-to-date knowledge from research and effective practice. (15 points)

(d) Quality of the Management Plan (20 points).

The Secretary considers the quality of the management plan for the proposed project. In determining the quality of the management plan for the proposed project, the Secretary considers the adequacy of procedures for ensuring feedback and continuous improvement in the operation of the proposed project. (20 points)

(e) Quality of the Project Evaluation (20 points).

The Secretary considers the quality of the evaluation to be conducted of the proposed project. In determining the quality of the evaluation, the Secretary considers the extent to which the methods of evaluation include the use of objective performance measures that are clearly related to the intended outcomes of the project and will produce quantitative and qualitative data to the extent possible. (20 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the School Climate Transformation Grant Program—State Educational Agency Grants:

(a) The number of training and technical assistance events provided by the SEA School Climate Transformation Grant Program to assist LEAs in implementing a multitiered behavioral framework.

(b) The number and percentage of schools in LEAs provided training or technical assistance by the SEA School Climate Transformation Grant Program that implement a multitiered behavioral framework.

(c) The number and percentage of LEAs provided training or technical assistance by the SEA School Climate Transformation Grant Program that implement a multitiered behavioral framework with fidelity.

These measures constitute the Department's indicators of success for this program. Consequently, we advise an applicant for a grant under this program to give careful consideration to these measures in conceptualizing the approach and evaluation for its proposed project. Each grantee will be required to provide, in its annual performance and final reports, data about its progress in meeting these measures. This data will be considered by the Department in making continuation awards.

Consistent with 34 CFR 75.591, grantees funded under this program shall comply with the requirements of any evaluation of the program conducted by the Department or an evaluator selected by the Department.

6. Continuation Awards: In making a continuation award, the Secretary may consider, under 34 CFR 75.253, the extent to which a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 23, 2018.
Frank T. Brogan,
Assistant Secretary for Elementary and Secondary Education.

[FR Doc. 2018-16005 Filed 7-25-18; 8:45 am]

BILLING CODE 4000-01-P